DEPARTMENT OF HOUSING AND URBAN DEVELOPMENT

[Docket No. FR-4565-N-13]

Notice of Proposed Information Collection: Comment Request; Supplement to Subscription Agreement for Cooperative Management-Type Applicants Under Section 213 and 221(d)(3)

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: July 25, 2000.

ADDRESSES: Interested persons are invited to submit comments regarding this proposal. Comments should refer to the proposal by name and/or OMB Control Number and should be sent to; Wayne Eddins, Reports Management Officer, Department and Housing and Urban Development, 451 7th Street, SW, L'Enfant Building, Room 8202, Washington, DC 20410, telephone (202) 708-5221 (this is not a toll-free number) for copies of the proposed forms and other available information.

FOR FURTHER INFORMATION CONTACT: Willie Spearmon, Director, Office of Business Products, U.S. Department of Housing and Urban Development, 451 7th Street SW, Washington, DC 20410, telephone number (202) 708-3000 (this is not a toll-free number).

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Supplement to Subscription Agreement for Cooperative Management-Type Applicants Under Section 213 and 221(d)(3).

OMB Control Number, if applicable: 2502-0058.

Description of the need for the information and proposed use: Section 213 and 221(d)(3) of the National Housing Act, as amended authorizes the Secretary to insure mortgages covering property held by a non-profit cooperative ownership housing cooperation. It states: “Any mortgages insured under this Section shall provide for complete amortization by periodic payments within such terms as the Secretary may prescribe but not to exceed forty years from the beginning of amortization of the mortgage * * *.” In order to determine the capacity of the borrower corporation and the individual members to meet the statutory requirement for repayment, the Department must require and review information as to the applicant's financial and credit history.

Agency form numbers, if applicable: HUD-93232A.

Estimation of the total numbers of hours and needed to prepare the information collection including number of respondents, frequency of response, and hours of response: The estimated number of respondents is 100, the frequency of response is 100, the frequency of response is 12, the estimated time per response is 15 minutes, and the requested annual burden hours is 300.

Status of the proposed information collection: Reinstatement with change.

Authority: The Paperwork Reduction Act of 1995, 44 U.S.C., Chapter 35, as amended.

Dated: May 15, 2000.
William C. Apgar,
Assistant Secretary for Housing-Federal Housing Commissioner.

[FR Doc. 00-13235 Filed 5-25-00; 8:45 am]

BILLING CODE 4210-27-M